LEGAL SERVICES CORPORATION

Sunshine Act Meetings of the Board of Directors and Four of the Board's Committees

Times and Dates: The Legal Services Corporation Board of Directors and four of its Committees will meet April 29-30, 2005, in the order set forth in the following schedule.

Meeting Schedule

Friday, April 29, 2005:

1. Provision for the Delivery of Legal Service Committee. 1:45 p.m.

2. Performance Reviews Committee.

3. Operations & Regulations Committee.

Saturday, April 30, 2005:

1. Finance Committee. 9:30 a.m.

2. Board of Directors.

Location: The Caribe Hilton Hotel, Los Rosales Street, San Geronimo Grounds, San Juan, Puerto Rico.

Status of Meetings: Open, except as noted below.

• Status: April 29, 2005, Annual Performance Reviews Committee Meeting—Closed. The Performance Reviews Committee meeting may be closed to the public pursuant to a vote of the Board of Directors authorizing the Committee in its executive session to consider and act on internal personnel rules and practices of the Corporation. The closing will be authorized by the relevant provisions of the Government in the Sunshine Act (5 U.S.C. 552b(c)(2) and (6)) and the Legal Services Corporation's corresponding regulation 45 CFR 1622.5(a) and (e). A copy of the General Counsel's Certification that the closing is authorized by law will be available upon request.

• Status: April 30, 2005, Board of Directors Meeting—Open, except that a portion of the meeting of the Board of Directors may be closed pursuant to a vote of the Board of Directors to hold an executive session. At the closed session, the Board will consider and may act on the proposed appointment of two corporate officers, and the Corporation's General Counsel will report to the Board on litigation to which the Corporation is or may become a party and the Board may act on the matters reported. The closing is authorized by 5 U.S.C. 552b(c)(2) and LSC's corresponding regulation 45 CFR 1622.5(a); 5 U.S.C. 552b(c)(6) and LSC's corresponding regulation 45 CFR 1622.5(e); 5 U.S.C. 552b(c)(7) and LSC's implementing regulation 45 CFR 1622.5(f)(4), and 5 U.S.C. 522b(c)(9)(B) and LSC's implementing regulation 45 CFR 1622.5(g); and 5 U.S.C. 552b(c)(10) and LSC's corresponding regulation 45 CFR 1622.5(h). A copy of the General Counsel's Certification that the closing is authorized by law will be available upon request.

Matters To Be Considered: Friday, April 29, 2005. Provision for the Delivery of Legal Services Committee.

Open Session

1. Approval of agenda.

2. Approval of the Committee's meeting minutes of February 4, 2005.

3. Presentations by Puerto Rico Legal Services:

a. Introductions and Overview by Luis Maldonado-Guzmán, Executive Director, Puerto Rico Legal Services, Inc.

b. Presentation on Private Attorney Involvement by Gladys Ares-Rivera, PAI Coordinator.

c. Presentation on TeleLawyer Project by Benjamin Garcia-Gonzalez, TeleLawyer Director.

d. Presentation on Special Education Project by Josefina Pantoja-Oquendo, Project Coordinator.

4. Presentations by Community Law Offices:

a. Overview by Carlos Rodriguez Videl, Board Chairman.

b. Report on collaborations with the Inter-American University and other organizations by Juan Correa Luna, Executive Director.

5. Public comment.

6. Consider and act on other business.

7. Consider and act on adjournment of meeting.

Performance Reviews Committee

1. Closed Session:

2. Approval of agenda.

3. Approval of the minutes of the Executive Session of the Committee's meeting of February 4-5, 2005.

4. Consider and act on internal procedures for annual performance review of LSC President.

5. Consider and act on issue of annual performance review of LSC Inspector General.

6. Consider and act on other business.

7. Consider and act on adjournment of meeting.

Operations & Regulations Committee

Open Session

1. Approval of agenda.

2. Approval of the Committee's meeting minutes of February 4-5, 2005.

3. Consider and act on 45 CFR part 1611 (Financial Eligibility).

4. Consider and act on petition to amend 45 CFR part 1617 (Class Actions).

5. Consider and act on future activities of the Committee.

6. Public comment.

7. Consider and act on other business.

8. Consider and act on adjournment of meeting.

Saturday, April 30, 2005.

Finance Committee

Open Session

1. Approval of agenda.

2. Approval of the minutes of the Committee's meeting of February 4, 2005.

3. Presentation by LSC's Inspector General of the FY 2004 Annual Financial Audit.

4. Report on LSC's Financial Results through February 28, 2005.

5. Report on FY 2005 Internal Budgetary Adjustments as recommended by the President and Inspector General as a result of the review of expenditures through February 28, 2005 and projected operating expenditures for the remainder of the fiscal year.

6. Consider and act on any FY 2005 COB Reallocations as recommended by the President and/or Inspector General.

7. Report on the status of the FY 2006 Appropriations process.

8. Consider and act on other business.

9. Public comment.

10. Consider and act on adjournment of meeting.

Board of Directors Meeting

Open Session

1. Approval of agenda.

2. Presentation by Puerto Rico Legal Services, Monitoring Office.

3. Approval of minutes of the Board's meeting of February 5, 2005.

4. Approval of minutes of the Executive Session of the Board's meeting of February 5, 2005.

5. Approval of minutes of the Board's meeting of April 13, 2005.

6. Chairman's Report.

7. Members' Reports.

8. President's Report.

9. Inspector General's Report.

10. Consider and act on the report of the Committee on the Provision for the Delivery of Legal Services.

11. Consider and act on the report of the Finance Committee.

12. Consider and act on the report of the Operations & Regulations Committee.

13. Consider and act on the report of the Performance Reviews Committee.

14. Consider and act on proposed process for the review and development of Strategic Directions.

15. Consider and act on Board's meeting schedule for calendar year 2006.

16. Consider and act on other business.

17. Public comment.

18. Consider and act on whether to authorize an executive session of the Board to address items listed below under Closed Session.

Closed Session

19. Consider and act on the appointment of a Chief Administrative Officer.

20. Consider and act on the appointment of a Vice President for Programs and Compliance.

21. Consider and act on General Counsel's report on potential and pending litigation involving LSC.

22. Consider and act on motion to adjourn meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: April 20, 2005.
Victor M. Fortuno,
Vice President for Legal Affairs, General Counsel & Corporate Secretary.

[FR Doc. 05-8258 Filed 4-20-05; 4:55pm]

BILLING CODE 7050-01-P